DEPARTMENT OF THE INTERIOR

Bureau of Land Management

[LLIDT03000-L14300000.EU0000; IDI-35249]

Notice of Intent To Prepare an Environmental Assessment for a Possible Land Use Plan Amendment To Provide for a Proposed Direct Land Sale in Blaine County, ID

AGENCY: Bureau of Land Management, Interior.

ACTION: Notice of intent.

SUMMARY: In compliance with the National Environmental Policy Act of 1969, as amended, and the Federal Land Policy and Management Act of 1976 (FLPMA), as amended, the Bureau of Land Management (BLM), Twin Falls District, Shoshone Field Office, Shoshone, Idaho intends to prepare an Environmental Assessment (EA) that will analyze the amendment of the 1981 Sun Valley Management Framework Plan, and by this notice is announcing the beginning of the scoping process to solicit public comments and identify issues.

DATES: This notice initiates the public scoping process for the land use plan amendment and associated EA. Comments on issues may be submitted in writing until December 12, 2011. The date(s) and location(s) of any scoping meetings will be announced at least 15 days in advance through local media, mailings to interested parties, and on the BLM Idaho Web site at: http://www.blm.gov/id/st/en/info/nepa.html. In order to be included in the EA, all comments must be received prior to the close of the 30 day scoping period or 15 days after the last public meeting, whichever is later. The BLM will provide additional opportunities for public participation upon publication of the EA.

ADDRESSES: Comments on issues and planning criteria related to the land use plan amendment should be addressed to Ruth A. Miller, BLM Shoshone Field Manager, 400 West F Street, Shoshone, Idaho 83352.

FOR FURTHER INFORMATION CONTACT: Tara Hagen, Realty Specialist, BLM Shoshone Field Office, telephone: (208) 732-7205; address: 400 West F Street, Shoshone, Idaho 83352. Please contact Tara Hagen to have your name added to our mailing list. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: The plan amendment and associated EA will address a proposed land sale in Blaine County, Idaho. The adjacent private landowner, Point of Rocks Ranch, has submitted a proposal to the BLM to consider disposing of the following-described land by direct sale, in accordance with Sections 203 and 209 of the FLPMA, as amended, (43 U.S.C. 1713 and 1714) and implementing regulations at 43 CFR part 2700, at no less that the appraised fair market value:

Boise Meridian

T. 1 S., R. 20 E.,

Sec. 15, that portion of public land in the NW¼SW¼ lying south of the North Picabo Road.

The area described contains approximately 3.4 acres in Blaine County.

On October 26, 2010, BLM published a Notice of Realty Action proposing a direct sale of the above-described land, which segregated the land from appropriation under the public land laws, including the mining laws, except the sale provisions of the FLPMA. The segregative effect will terminate upon issuance of a patent, publication in the Federal Register of a termination of the segregation, or October 26, 2012, unless extended by the BLM State Director in accordance with 43 CFR 2711.1-2(d) prior to the termination date. As part of its consideration of the proposed direct sale of this land, BLM will consider whether the Sun Valley Management Framework Plan should be amended to address the sale. To the extent possible, this land use planning process will be integrated with the ongoing NEPA process for the proposed sale. This notice initiates the public scoping process for the plan amendment and associated EA.

The purpose of the public scoping process is to determine relevant issues that will influence the scope of the environmental analysis, including alternatives, and guide the process for developing the EA. The public is invited to provide scoping comments on the issues that should be addressed in the preparation of the plan amendment, including: Lands, wildlife, migratory birds, recreation, wilderness, range, minerals, cultural resources, watershed/soils, threatened/endangered species, and hazardous materials. The BLM will use an interdisciplinary approach to develop the plan amendment in order to consider the variety of resource issues and concerns identified. Specialists with expertise in the following disciplines will be involved in the planning process: Rangeland management, minerals and geology, forestry, outdoor recreation, archaeology, paleontology, wildlife and fisheries, land and realty, hydrology, soils, sociology and economics.

Native American Tribal consultations will be conducted in accordance with policy, and Tribal concerns will be given due consideration, including impacts on Indian trust assets. Federal, State, and local agencies, along with other stakeholders that may be interested or affected by the BLM's decision on this project are invited to participate in the scoping process and, if eligible, may request or be requested by the BLM to participate as a cooperating agency.

Before including your address, phone number, email address, or other personal identifying information in your comment, you should be advised that your entire comment—including your personal identifying information—may be made publicly available at any time. While you can ask us in your comment to withhold from public review your personal identifying information, we cannot guarantee that we will be able to do so.

Authority: 40 CFR 1501.7, 1508.22, and 43 CFR 1610.2.

Ruth A. Miller,
Shoshone Field Manager.

[FR Doc. 2011-29171 Filed 11-9-11; 8:45 am]

BILLING CODE 4310-GG-P